SURFACE TRANSPORTATION BOARD

[Docket No. AB 1305X]

North Coast Railroad Authority—Abandonment Exemption—in Mendocino, Trinity, and Humboldt Counties, Cal.

North Coast Railroad Authority (NCRA) ¹ filed a verified notice of exemption under 49 CFR part 1152 subpart F—Exempt Abandonments and Discontinuances of Service to abandon 175.84 miles of rail line extending between milepost 139.5, near Willits, and milepost 284.1, near Eureka, including appurtenant branch lines extending to milepost 267.72 near Carlotta, milepost 295.57 near Korblex, milepost 300.5 near Samoa, and milepost 301.8 near Korbel, in Mendocino, Trinity and Humboldt Counties, Cal.² The line traverses the following U.S. Postal Service Zip Codes: 95429, 95595, 95454, 95542, 95560, 95559, 95553, 95571, 95569, 95565, 95562, 95540, 95551, 95537, 95564, 95524, 95521, 95519, 95525, 95521, 95524, 95501, 95503, 95526, 95514, 95511, and 95490.

¹ NCRA notes that the State of California has changed NCRA's name to Great Redwood Trail Agency, effective March 1, 2022. (NCRA Letter 6, Jan. 10, 2022.)

² NCRA's verified notice describes the line sought to be abandoned as including the Arcata & Mad River subsidiary, between milepost 295.57, near Korblex, and milepost 301.8, near Korbel, a distance of approximately 6.23 miles. (Verified Notice 1 n.1.) The verified notice, however, expresses uncertainty about the Board's jurisdiction over the Arcata & Mad River subsidiary, (id. at 1 n.1 & Ex. B), and, by decision served on June 9, 2021, the Board held this proceeding in abeyance to permit consideration of that question. By decision served on May 17, 2022, the Board determined that abandonment of the Arcata & Mad River subsidiary had previously been consummated, removing that segment from the Board's jurisdiction. Therefore, the line that NCRA seeks to abandon is, hereinafter, defined to consist of 169.61 miles extending between milepost 139.5, near Willits and milepost 284.1, near Eureka, including appurtenant branch lines extending to milepost 267.72 near Carlotta, milepost 295.57 near Korblex, and milepost 300.5 near Samoa (the Line).

NCRA has certified that: (1) No local traffic has moved over the Line for at least two years; (2) there is no overhead traffic so none needs to be rerouted; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.7(b) and 1105.8(c) (notice of environmental and historic reports), 49 CFR 1105.12 (newspaper publication), and 49 CFR 1152.50(d)(1) (notice to governmental agencies) have been met.

As a condition to this abandonment, any employee of NCRA adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,³ the exemption will be effective on June 19, 2022, unless stayed pending reconsideration. Petitions to stay that do not involve environmental issues ⁴ must be filed by May 27, 2022; formal expressions of intent to file an OFA under 49 CFR 1152.27(c)(2), and interim trail use/rail banking requests under 49 CFR 1152.29 must be filed by May 31, 2022.⁵ Petitions to reopen or requests for public use conditions under 49 CFR 1152.28 must be filed by June 9, 2022.

³ Persons interested in submitting an OFA must first file a formal expression of intent to file an offer, indicating the type of financial assistance they wish to provide (i.e., subsidy or purchase) and demonstrating that they are preliminarily financially responsible. See 49 CFR 1152.27(c)(2)(i).

⁴ The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

⁵ Filing fees for OFAs and trail use requests can be found at 49 CFR 1002.2(f)(25) and (27), respectively.

All pleadings, referring to Docket No. AB 1305X, must be filed with the Surface Transportation Board either via e-filing on the Board's website or in writing addressed to 395 E Street SW, Washington, DC 20423-0001. In addition, a copy of each pleading filed with the Board must be served on NCRA's representative, Charles H. Montange, Law Offices of Charles H. Montange, 426 NW 162nd Street, Seattle, WA 98177.

If the verified notice contains false or misleading information, the exemption is void ab initio.

NCRA has filed a combined environmental and historic report that addresses the potential effects, if any, of the abandonment on the environment and historic resources. OEA issued a Draft Environmental Assessment (EA) on June 8, 2021, but that Draft EA has been rescinded. OEA will issue a Corrected Draft EA by May 25, 2022. The Corrected Draft EA will be available to interested persons on the Board's website, by writing to OEA, or by calling OEA at (202) 245-0294. Assistance for the hearing impaired is available through the Federal Relay Service at (800) 877-8339. Comments on environmental and historic preservation matters must be filed within 15 days after the Corrected Draft EA becomes available to the public.

Environmental, historic preservation, public use, or interim trail use/rail banking conditions will be imposed, where appropriate, in a subsequent decision.

Pursuant to the provisions of 49 CFR 1152.29(e)(2), NCRA shall file a notice of consummation with the Board to signify that it has exercised the authority granted and fully abandoned the Line. If consummation has not been effected by NCRA's filing of a notice of consummation by May 20, 2023, and there are no legal or regulatory barriers to consummation, the authority to abandon will automatically expire.⁶

⁶ In a separate docket, NCRA filed a petition seeking exemptions from certain statutory provisions and waivers of certain regulatory requirements regarding a proposed third-party, or “adverse,” application for discontinuance of Northwestern Pacific Railway Company's operating rights over a portion of the Line, and the Board granted, in part, the petition for exemptions and waivers. See N. Coast R.R.—Adverse Discontinuance of Lease & Operating Auth.—Nw. Pac. R.R., AB 1313 (STB served Mar. 4, 2022). NCRA may not consummate this abandonment until all operating authority on the Line has been terminated. See, e.g., BNSF Ry.—Aban. Exemption—in Flathead Cnty., Mont., AB 6 (Sub-No. 495X) (STB served Aug. 14, 2017).

Board decisions and notices are available at www.stb.gov.

Decided: May 17, 2022.
By the Board, Scott M. Zimmerman, Acting Director, Office of Proceedings.
Tammy Lowery,
Clearance Clerk.

[FR Doc. 2022-10876 Filed 5-19-22; 8:45 am]

BILLING CODE 4915-01-P